DEPARTMENT OF THE INTERIOR

Bureau of Land Management

[ID-075-2822 JL F604]

Notice of Emergency Closure

AGENCY: Bureau of Land Management, Interior.

ACTION: Notice of emergency closure.

SUMMARY: Notice is hereby given that effective immediately, certain public lands in Oneida County, Idaho shall be closed to all vehicle traffic to prevent erosion and allow vegetation to recover from the Taylor Mountain wildfire. The restriction will remain in effect until March 1, 2003.

The fire burned approximately 8,197 acres of public land within portions of each of the following sections: From Boise Meridian; T. 16S., R 33E., sections: 2,3,4,5,6,8,9,10,11,12,14,15 and T. 15S., R 33E., sections: 15,22,25,26,27,28,32,33,34,35.

SUPPLEMENTARY INFORMATION: The closure is in conformance with principles established by the Federal Land Policy and Management Act of 1976 and in accordance with 43 CFR 8341.2. The vehicle closure is required to prevent environmental damage by motorized vehicles to soils, vegetation, wildlife values, and associated resources. This closure does not apply to Bureau of Land Management personnel, or an authorized representative of the Bureau of Land Management, or Idaho Department of Fish & Game personnel.

FOR FURTHER INFORMATION CONTACT: Jeff Steele, Field Office Manager, Pocatello Field Office, Bureau of Land Management—1111 N 8th Ave, Pocatello, ID (208)-478-6340. Maps of the closed areas are available in the Pocatello Field office and the Malad Field Station—138 So. Main St., Malad City, ID (208)-766-4866.

Dated: November 13, 2000.
Jeff S. Steele,
Pocatello Field Office Manager.

[FR Doc. 00-33034 Filed 12-27-00; 8:45 am]

BILLING CODE 4310-GG-P